NEIGHBORHOOD REINVESTMENT CORPORATION

Sunshine Act Meeting; Regular Board of Directors Meeting

TIME and DATE: 10:00 a.m., Thursday, March 21, 2013.

PLACE: 1325 G Street NW., Suite 800, Boardroom, Washington, DC 20005.

STATUS: Open.

CONTACT PERSON FOR MORE INFORMATION: Erica Hall, Assistant Corporate Secretary (202) 220-2376; ehall@nw.org.

AGENDA:

I. Call To Order

II. Approval of Minutes

III. Budget Discussion

IV. Financial Report

V. DC Office Move

VI. NCST Board

VII. Homeownership Challenges & Opportunities Going Forward

VIII. NC/CHC Grants

IX. FY 12 Milestone Report & Dashboard

X. COO Report

XI. MHA, NFMC & EHLP Reports

XII. Executive Session

XIII. Adjournment

Erica Hall,
Assistant Corporate Secretary.

[FR Doc. 2013-06003 Filed 3-12-13; 11:15 am]

BILLING CODE 7570-02-P